ENVIRONMENTAL PROTECTION AGENCY

40 CFR Parts 52 and 81

[R10-OAR-2005-WA-0005; FRL-7931-4]

Approval and Promulgation of Implementation; Plans and Designation of Areas for Air Quality Planning Purposes: Wallula, WA, Area

AGENCY: Environmental Protection Agency.

ACTION: Proposed rule.

SUMMARY: The Environmental Protection Agency (EPA, Agency, or we) proposes to approve a PM10 State Implementation Plan (SIP) maintenance plan revision for the Wallula, Washington nonattainment area and to redesignate the area from nonattainment to attainment. PM10 air pollution is suspended particulate matter with a nominal diameter less than or equal to a nominal ten micrometers. We are proposing to approve the revision and redesignation request because we believe the State adequately demonstrates that the control measures being implemented in the Wallula area result in maintenance of the PM10 National Ambient Air Quality Standards and that all other requirements of the Clean Air Act for redesignation to attainment are met.

DATES: Comments must be received on or before August 1, 2005.

ADDRESSES: Submit your comments, identified by Docket ID No. R10-OAR-2005-WA-0005, by one of the following methods:

1. Federal eRulemaking Portal: http://www.regulations.gov. Follow the on-line instructions for submitting comments.

2. Agency Web site: http://www.epa.gov/edocket. EDOCKET, EPA's electronic public docket and comment system, is EPA's preferred method for receiving comments. Follow the on-line instructions for submitting comments.

3. E-mail: r10.aircom@epa.gov.

4. Mail: Office of Air, Waste and Toxics, Environmental Protection Agency, Attn: Donna Deneen, Mailcode: AWT-107, 1200 Sixth Avenue, Seattle, WA 98101.

5. Hand Delivery: Environmental Protection Agency Region 10, Attn: Donna Deneen (AWT-107), 1200 Sixth Ave., Seattle, WA 98101, 9th floor mail room. Such deliveries are only accepted during EPA's normal hours of operation, and special arrangements should be made for deliveries of boxed information.

Instructions: Direct your comments to Docket ID No. R10-OAR-2005-WA-0005. EPA's policy is that all comments received will be included in the public docket without change, including any personal information provided, unless the comment includes information claimed to be Confidential Business Information (CBI) or other information whose disclosure is restricted by statute. Do not submit information that you consider to be CBI or otherwise protected through regulations.gov or e-mail. The EPA EDOCKET and the Federal regulations.gov Web site are an “anonymous access” system, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the EDOCKET index at http://www.epa.gov/edocket. Although listed in the index, some information may not be publicly available, such as CBI or other information whose disclosure is restricted by statute. Certain other material, such as copyrighted material, is not placed on the Internet and will be publicly available only in hard copy form. Publicly available docket materials are available either electronically in EDOCKET or in hard copy at EPA Region 10, Office of Air Quality, 1200 Sixth Avenue, Seattle, Washington, from 8 a.m. to 4:30 p.m. Monday through Friday, excluding legal holidays. Please contact the individual listed in the FOR FURTHER INFORMATION CONTACT section to schedule your review of these records.

FOR FURTHER INFORMATION CONTACT: Donna Deneen, Office of Air, Waste and Toxics, Region 10, AWT-107, Environmental Protection Agency, 1200 Sixth Ave., Seattle, WA 98101; phone: (206) 553-6706; fax number: (206) 553-0110; e-mail address: deneen.donna@epa.gov

SUPPLEMENTARY INFORMATION:

Table of Contents

I. General Overview

A. What Action Are We Taking?

B. What Is the Background for This Action?

1. Description of the Area

2. Description of the Air Quality Problem

3. Nonattainment History of the Wallula Area

C. What Impact Does This Action Have on the Community in the Wallula Area?

II. Review of Maintenance Plan

A. What Criteria Did EPA Use to Review the Maintenance Plan?

1. Attainment Emissions Inventory (and Future Year Inventory)

2. Maintenance Demonstration

a. 24-hour PM10 NAAQS

b. PM10 Annual NAAQS

3. Monitoring Network

4. Verification of Continued Attainment

5. Contingency Plan

B. What Do We Conclude About the Maintenance Plan?

III. Review of Redesignation Request

A. What Criteria Did EPA Use to Review the Request for Redesignation?

1. Attainment of the NAAQS

2. SIP Nonattainment Area Plan Approval under Section 110(k)

3. Permanent and Enforceable Improvements in Air Quality

4. Section 110 and Part D Requirements

a. Section 110 Requirements

b. Part D Requirements

i. Section 172(c) Plan Provisions

ii. Subpart 4 Requirements

5. Conformity

6. Maintenance Plans

B. What Do We Conclude About the Request for Redesignation?

IV. Conclusion

V. Statutory and Executive Order Reviews

I. General Overview

A. What Action Are We Taking?

We are proposing to approve the SIP revision and redesignation request submitted by the State of Washington Department of Ecology (Ecology or State) on March 29, 2005, for the Wallula, Washington PM10 nonattainment area (Wallula nonattainment area). We are proposing to approve the revision and request for redesignation because we believe the State adequately demonstrates that the control measures being implemented in the Wallula area result in maintenance of the PM10 National Ambient Air Quality Standards (NAAQS) and that all other requirements of the Clean Air Act (the Act) for redesignation to attainment are met. See the Technical Support Document (TSD) accompanying this notice for further supporting documentation

B. What Is the Background for This Action?

1. Description of the Area

The Wallula nonattainment area lies in eastern Washington just north of the Oregon border in the southern portion of the Columbia Plateau. The nonattainment area is a 12 square mile area and includes parts of Walla Walla and Benton Counties and a small portion of Sacajawea State Park in Franklin County. The Wallula area is located in the lowest and driest section of eastern Washington and receives as little as seven to nine inches of precipitation each year. Summer precipitation is usually associated with thunderstorms and it is not unusual for four to six weeks to pass without measurable rainfall in the summer. The Columbia Plateau is also known for prolonged periods of strong winds which carry dust particles for hundreds of miles downwind. Wind erosion is a particular problem in the area because of the natural dustiness of the region due to its dry environments, scant vegetation, unpredictable high winds, and soils which contain substantial quantities of PM10.

The Wallula nonattainment area is generally rural and agricultural. Prominent land uses include dryland and irrigated cropland, industrial sites and natural vegetation. There is only one major stationary source in the nonattainment area, a large pulp and paper mill and its associated compost facility and landfill. There is also a large beef cattle feedlot, a beef processing plant, a natural gas compressor station, grain storage silos and a few other minor sources. The population of the area is approximately 4800. Two-thirds of the population live in the northwest portion of the nonattainment area in the unincorporated town of Burbank.

2. Description of the Air Quality Problem

Air quality analysis shows dust is the main contributor to the area's PM10 exceedances. (See supporting documentation for our approval of the serious area plan at 70 FR 22597 (May 2, 2005).) Analyses of high and low wind days and of high and low PM10 days reveal dust to be the primary material collected on other days as well. An emissions inventory identifies fugitive dust from agricultural fields to be the predominant source of PM10 in the area.

There have been nine reported PM10 exceedances in the Wallula nonattainment area since January 1, 1995. All but one are attributed to dust raised by unusually high winds. To the extent the dust is attributable to anthropogenic (man-made) sources, such sources are controlled with best available control measures. As discussed in the approval of the serious area plan (70 FR 22597 (May 2, 2005)), EPA's Natural Event Policy allows these exceedances to be excluded from determinations of whether the area is attaining the PM10 standards. See Memorandum from EPA's Assistant Administrator for Air and Radiation to EPA Regional Air Directors entitled “Areas Affected by Natural Events,” dated May 30, 1996 (EPA's Natural Events Policy).

One exceedance since January 1, 1995 was not due to high winds. This exceedance, which occurred on July 3, 1997, was attributed to an unusual and nonrecurring activity involving the transport of multiple loads of composting material near the monitor.

The Wallula serious area plan demonstrated attainment with the PM10 NAAQS by showing that agricultural field activities in the area are employing best management practices to reduce PM10 emissions, and that the feedlot, compost facility and other sources of fugitive PM10 emissions employ best available control measures. The measures include steps to prevent the type of exceedance that occurred on July 3, 1997 from happening again.

3. Nonattainment History of the Wallula Area

The Wallula area was designated nonattainment for PM10 and classified as moderate under sections 107(d)(4)(B) and 188(a) of the CAA upon enactment of the Clean Air Act Amendments of 1990.¹ See 40 CFR 81.348 (PM10 Initial Nonattainment Areas); see also 56 FR 56694 (November 6, 1991). Under subsections 188(a) and (c)(1) of the CAA, all initial moderate PM10 nonattainment areas had the same applicable attainment date of December 31, 1994.

¹ The 1990 Amendments to the CAA made significant changes. See Public Law 101-549, 104 Stat. 2399. References herein are to the CAA as amended in 1990. The Clean Air Act is codified, as amended, in the United States Code at 42 U.S.C. 7401 et seq.

States containing initial moderate PM10 nonattainment areas were required to develop and submit to EPA by November 15, 1991, a SIP revision providing for, among other things, implementation of reasonably available control measures (RACM), including reasonably available control technology (RACT), and a demonstration of attainment of the PM10 NAAQS by December 31, 1994. See section 189(a) of the CAA.² In response to this submission requirement, Ecology submitted a SIP revision for Wallula on November 15, 1991. Subsequently, Ecology submitted additional information indicating that nonanthropogenic sources may be significant in the Wallula nonattainment area during windblown dust events. Based on our review of the State's submissions, we deferred action on several elements in the Wallula SIP, approved the control measures in the SIP as meeting RACM/RACT, and, under section 188(f) of the CAA, granted a temporary waiver to extend the attainment date for Wallula to December 31, 1997. See 60 FR 63109 (December 6, 1995) (proposed action); 62 FR 3800 (January 27, 1997) (final action). The temporary waiver was intended to provide Ecology time to evaluate further the Wallula nonattainment area and to determine the significance of the anthropogenic and nonanthropogenic sources impacting the area. Once these activities were complete or the temporary waiver expired, EPA was to make a decision on whether the area was eligible for a permanent waiver under section 188(f) of the CAA or whether the area had attained the standard by the extended attainment date. See 62 FR at 3802.

² The moderate area SIP requirements are set forth in section 189(a) of the CAA.

On February 9, 2001, EPA published a Federal Register notice making a final determination that the Wallula area had not attained the PM10 standard by the attainment date of December 31, 1997. See 66 FR 9663 (February 9, 2001) (final action); (65 FR 69275) (November 16, 2000) (proposed action). EPA made this determination based on air quality data for calendar years 1995, 1996, and 1997. As a result of that finding, the Wallula nonattainment area was reclassified by operation of law as a serious PM10 nonattainment area effective March 12, 2001 with an attainment date of December 31, 2001.³ See 188(b)(2)(A) and 188(c)(2). On October 22, 2002, EPA found that the Wallula nonattainment area attained the NAAQS for PM10 as of December 31, 2001. EPA's finding was based on EPA's review of monitored air quality data in its Air Quality System (AQS) database for the years 1999 through 2001. EPA's finding included a determination that exceedances that occurred in the area on June 21, 1997, July 10, 1998, June 23, 1999, and August 10, 2000 were due to high winds and, consistent with EPA policy, not considered in determining the area's air quality status. EPA has stated that it will treat ambient PM10 exceedances caused by dust raised by unusually high winds as due to uncontrollable natural events (and thus excludable from attainment determinations) if either (1) the dust originated from nonanthropogenic sources or (2) the dust originated from anthropogenic sources controlled with best available control measures (BACM). See EPA's Natural Events Policy, pp. 4-5.

³ Under section 188(c)(2) of the CAA, attainment areas designated nonattainment for PM10 under section 107(d)(4) of the CAA were required to attain the PM10 standard no later than December 31, 2001. As discussed above, Wallula was designated nonattainment under section 107(d)(4) of the CAA.

After EPA made its finding of attainment, Ecology continued to investigate the one remaining exceedance on July 3, 1997 that led to the area's reclassification to serious. Ecology concluded that the exceedance was likely attributable to a one time non-recurring activity involving the transportation of 130 truckloads of finished compost near the monitor on July 1-3, 1997. Although this activity was determined to be unusual and nonrecurring and EPA subsequently determined that the area attained the standards as of December 31, 2001, the Wallula area remained classified as a serious nonattainment area. As a result, a serious area nonattainment SIP revision—in addition to the moderate area SIP revision required under section 189(a)—was required under section 189(b). Ecology submitted a SIP revision meeting both the moderate and serious area planning requirements on November 30, 2004. We approved this SIP revision on May 2, 2005. 70 FR 22597.

In order for the Wallula nonattainment area to be redesignated to attainment for PM10, a 10-year maintenance plan and redesignation request is required for the area. A SIP revision containing these elements was submitted to EPA on March 29, 2005. The accompanying TSD explains why we recommend approval of both the plan and request contained in this revision.

C. What Impact Does This Action Have on the Community in the Wallula Area?

EPA's approval of the State's SIP submittal (that is, approval of the maintenance plan and redesignation request) would result in redesignation of Wallula to a PM10 attainment area. A redesignation to attainment would relieve the Wallula area of certain obligations currently in place because of its nonattainment status. In the event of new sources in the area, minor New Source Review (NSR) and Prevention of Significant Deterioration (PSD) requirements would apply.

Although the SIP revision contains emissions reduction control measures that impact both fugitive dust sources and industrial facilities, these control measures are already in place and are enforceable by the State. Therefore, our approval of these measures now has little or no additional regulatory impact on the Wallula community.

II. Review of Maintenance Plan

A. What Criteria Did EPA Use To Review the Maintenance Plan?

Section 107(d)(3)(E) of the Act stipulates that for an area to be redesignated to attainment, EPA must fully approve a maintenance plan which meets the requirements of Section 175A. Section 175A defines the general framework of a maintenance plan, which must provide for maintenance, i.e., continued attainment, of the relevant NAAQS in the area for at least ten years after redesignation. The following is a list of core provisions required in an approvable maintenance plan.

1. The State must develop an attainment emissions inventory to identify the level of emissions in the area which is sufficient to attain the NAAQS.

2. The State must demonstrate maintenance of the NAAQS.

3. The State must verify continued attainment through operation of an appropriate air quality monitoring network.

4. The maintenance plan must include contingency provisions to promptly correct any violation of the NAAQS that occurs after redesignation of the area.

See also the September 4, 1992 Calcagni guidance memorandum (Procedures for Processing Requests to Redesignate Areas to Attainment).

As explained below, the PM10 maintenance plan for the Wallula nonattainment area complies with each of these requirements. See the accompanying TSD for further documentation supporting approval of this plan.

1. Attainment Emissions Inventory (and Future Year Inventory)

The State should develop an attainment year emissions inventory to identify the level of emissions in the area which is sufficient to attain the NAAQS. Where the State has made an adequate demonstration that air quality has improved as a result of the control measures in the SIP, the attainment inventory will generally be an inventory of actual emissions at the time the area attained the standards. This inventory should be consistent with EPA's most recent guidance on emissions inventories for nonattainment areas available at the time and should include the emissions during the time period associated with the monitoring data showing attainment.

The State submitted a PM10 attainment emissions inventory for 2002, a year associated with monitoring data showing attainment. We made an official finding that the area met its attainment date as of December 31, 2001, based on 1999, 2000 and 2001 data. See 67 FR 64815 (October 22, 2002). Air quality data since then, including for 2002, has continued to show attainment.

The 2002 inventory reflects the predominantly rural, agricultural nature of the nonattainment area. Agricultural tilling accounts for just over half (51%) of the area's emissions. The rest are attributed to the pulp and paper mill (the only major source in the nonattainment area), small industrial sources, and mobile sources, which account for 20%, 19% and 9%, respectively.

The state also submitted a 2015 emissions inventory to correspond with the end of the 10 year period covered by the maintenance plan. The total emissions projected for 2015 are more than twice those of the 2002 attainment inventory on both an annual and typical PM10 season day basis. The increase is primarily due to the use of allowable emissions from the existing point sources, and not primarily due to a projected increase in actual emissions. In addition, the 2015 inventory includes permitted emissions from a natural gas-fired power plant for which the state has issued a permit to construct, but which has not yet been constructed.

The methods used to develop the emissions inventories are consistent with EPA guidelines. The assumptions and calculations were checked and found to be thorough and comprehensive. In sum, the State has adequately developed an attainment emissions inventory for 2002 that identifies the levels of emissions of PM10 in the area as sufficient to attain the NAAQS. Further, the State has adequately developed a future year inventory for use in demonstrating maintenance with the NAAQS at least ten years after redesignation.

2. Maintenance Demonstration

A State may generally demonstrate maintenance of the NAAQS by either showing that future emissions of a pollutant or its precursors will not exceed the level of the attainment inventory, or by modeling to show that the future mix of sources and emission rates will not cause a violation of the NAAQS. Under the Act, PM10 areas are required to submit modeled attainment demonstrations to show that proposed reductions in emissions will be sufficient to attain the applicable NAAQS. For these areas, the maintenance demonstration should be based upon the same level of modeling. The demonstration should be for a period of 10 years following the redesignation.

a. 24-hour PM10 NAAQS

The 24-hour PM10 NAAQS is 150 μg/m³. This daily standard is attained when the expected number of days per calendar year with a 24-hour average concentration above 150 μg/m³ is equal to or less than one. To demonstrate maintenance of the 24-hour PM10 NAAQS for the Wallula nonattainment area, the State used a combination of linear speciated rollback and dispersion modeling.

To select dates for speciated rollback modeling, Ecology evaluated filters collected from the 2000-2002 period, the most recent three years for which data from a single monitoring location was available. (The monitoring location was moved in 2003.) During this period, there were nine days that reached elevated levels (defined as 24-hour levels 90 ug/m3 or above). Of those, three dates are associated with a natural event and excluded from further analysis because the sources on those days are addressed by the Natural Events Policy.⁴ Two other dates are excluded because either there is no meteorological information for that day or the mixed wind regime on that day makes it too difficult to relate the exceedance to meteorology. Finally, one date is excluded because it is the lowest of the nine elevated levels (90 ug/m3) and would be unlikely to impact the state's ability to demonstrate maintenance of the NAAQS.⁵ The remaining dates used by the state for its analysis are June 29, 2000, July 12, 2001, and June 17, 2000. These dates correspond to dates on which one of two wind regimes (southwest and north) existed, representing the wind directions for a majority of the elevated readings.

⁴ Two of these dates, August 10, 2000 and September 29, 2002, are documented by EPA as natural events. 70 FR 22597, May 2, 2005. A third date, May 2, 2002, was claimed as a high wind natural event in Ecology's submittal but was not an exceedance. We cannot concur with the high wind event on May 2, 2002 because the documentation was not submitted within 6 months of occurrence, the timeline in our Natural Events Policy. Nevertheless, we believe it is acceptable to exclude May 2, 2002 from the maintenance demonstration analysis because it corresponds with a date that an accepted natural event exceedance occurred in nearby Walla Walla. Given the proximity of the Wallula and Walla Walla monitors (within about 30 miles of each other) and recognizing both areas are covered by the same 2003 Columbia Plateau Natural Event Action Plan, it is reasonable to believe that the contributing sources for both Wallula and Walla Walla were adequately addressed under the Natural Events Policy on that day.

⁵ The State excluded this elevated level because of high winds on that day, but high winds alone (absent appropriately submitted Natural Event Policy documentation) does not warrant exclusion from the data. Nevertheless, we believe it is acceptable to exclude this date because it is the lowest of the nine levels and would be unlikely to impact the state's ability to demonstrate maintenance.

The measured 24-hour concentrations on June 29, 2000, July 12, 2001 and June 17, 2000 were 126 ug/m3, 109 ug/m3, and 100 ug/m3, respectively. The primary constituents found on the filter for the first two days were compost and agricultural soil/unpaved road dust (agricultural soil and unpaved road dust were too similar to be differentiated). The primary constituents on the filter for the third day were also compost and agricultural soil/unpaved road dust, with minor contribution from a beef processing plant.

Using linear speciated rollback modeling, the contribution of each constituent on each filter was multiplied by the appropriate growth factor used to project the 2015 emissions inventory. These results were summed for each filter to arrive at total maximum projected levels for 2015. The predicted levels were 128ug/m3, 111 ug/m3, and 103 ug/m3. All three projected levels are below the 24-hour PM10 NAAQS demonstrating maintenance of the 24-hour PM10 NAAQS.

Dispersion Modeling

Two other evaluations were performed to ensure maintenance of the 24-hour NAAQS in Wallula. First, the State evaluated the impact of emissions from Boise Paper Solutions, a pulp and paper mill and the only existing major stationary source in the nonattainment area. Using AERMOD-Prime, the State modeled the mill's maximum allowable emissions out to 2015. The model showed a maximum impact of 87.93 ug/m3. When added to the projected PM10 background concentration of 52.0 ug/m3 (reflecting the background concentration outside the nonattainment area and the contribution of other sources within the nonattainment area), the total maximum projected PM10 level for 2015 was 139.93 ug/m3. This level is below the 24-hour PM10 NAAQS and demonstrates the mill will not adversely impact continued attainment of the NAAQS.

A second evaluation was performed for a future natural gas-fired power generating station, the Wallula Power Project, which is planned but not yet constructed in the nonattainment area. As part of the permitting process, the source's projected allowable emissions were modeled to determine their potential impact on air quality and were found to be insignificant. The results of this evaluation demonstrate that the gas-fired generating station will not interfere with the area's continued attainment of the NAAQS.

b. PM10 Annual NAAQS

The annual PM10 NAAQS is 50 μg/m³. This yearly standard is attained when the expected annual arithmetic mean concentration is less than or equal to 50 μg/m3.

To demonstrate attainment of the annual PM10 NAAQS, Ecology relies on the area's historic monitoring data in lieu of a modeling demonstration. We believe this approach is appropriate for two reasons. First, the Wallula nonattainment area has never violated the annual PM10 NAAQS since monitoring began in 1986. Second, annual arithmetic mean concentrations in recent years have been more than 30 percent below the standard. Based on evidence of low annual levels for the area, in combination with our expectation that control measures implemented to reduce 24-hour levels will also aid in reducing annual levels, we believe it is very unlikely that the Wallula area will exceed the annual standard in the future. Consequently, we believe that maintenance of the annual standard is demonstrated for the area.

In sum, linear speciated rollback modeling and dispersion modeling show that the area will meet the 24-hour PM10 NAAQS at least until 2015. Air quality data and control measures to reduce 24-hour levels adequately demonstrate maintenance of the annual standard. We therefore conclude that the State has met the requirements under section 175A of the Act to demonstrate maintenance of the NAAQS for PM10.

3. Monitoring Network

For most of the period since 1986, Ecology's monitoring network for the Wallula nonattainment area has consisted of a single monitoring site. This site is referred to in EPA's Air Quality System (AQS) database as the Nedrow Farm/Wallula Junction monitoring site. This monitoring site was discontinued pursuant to an agreement with the landowner to stop using the monitoring location by October 31, 2003.

In anticipation of the closure of the Nedrow Farm/Wallula Junction monitoring site, Ecology provided EPA with an analysis of the two potential replacement sites and recommended Burbank for the replacement site on the grounds that the monitor at the Burbank site measured the same air mass as the Wallula monitoring site. Based on our review of the data measured at the two sites, we agreed that Burbank was an appropriate replacement site to the original Wallula monitoring site. Burbank is now the sole PM10 monitoring location in the nonattainment area. There are two PM10 monitors at this location. One is a Federal Reference Method (FRM) monitor that has a sampling frequency of once every three days. The other is a tapered element oscillating microbalance (TEOM) mass monitor that runs continuously.

Ecology has operated an ambient air quality monitoring network for PM10 in Washington since the mid 1980s. The State network, which includes the Burbank monitoring site, utilizes EPA reference or equivalent method monitors and routine precision and accuracy checks of the monitoring equipment are made and necessary maintenance performed when warranted. EPA routinely reviews the State monitoring program and it meets Federal requirements.

4. Verification of Continued Attainment

Once an area has been redesignated, the State must continue to operate an appropriate air quality monitoring network, in accordance with 40 CFR part 58, to verify the attainment status of the area. The maintenance plan should contain provisions for continued operation of air quality monitors that will provide such verification. In section 4.4 of the maintenance plan, the State commits to maintaining a monitoring network that meets the requirements of 40 CFR part 58.

5. Contingency Plan

Section 175A of the Act also requires that a maintenance plan include contingency provisions, as necessary, to correct promptly any violation of the NAAQS that occurs after redesignation. These contingency measures are distinguished from those generally required for nonattainment areas under section 172(c)(9). At a minimum, the contingency measures must include a commitment that the State will implement all measures contained in the nonattainment SIP prior to redesignation.

The State carries over all of the control measures and contingency measures from the serious area plan into the maintenance plan. These contingency measures focus on the mitigation of windblown dust because windblown dust is associated with all recent exceedances of the standard (since 1997) and is the most likely cause of future exceedances. Because of the likelihood of future wind blown exceedances, the plan does not include a PM10 trigger level for implementing the contingency measures. Rather, the measures are to be implemented on a regular basis regardless of the PM10 levels measured.

The plan's contingency measures include improvements to Ecology's process for identifying source contributors when high wind events are occurring, certain PM10 reduction projects included in Ecology's 2003 NEAP, and Ecology's BACM demonstration and our accompanying review every time a windblown dust exceedance occurs. The maintenance plan provides an update on the implementation of these measures, including the status of the use of mulched straw in highly erodible areas to protect occurrences of windblown dust, efforts to facilitate the building of conservation buffers to reduce wind erosion, and expanded enrollment of conservation reserve program acreage in the Horse Heaven Hills. See section 4.6 of the maintenance plan.

In carrying over all the control and contingency measures from the serious area plan, the State has not removed or reduced the stringency of the control measures relied on to demonstrate attainment. Therefore, the State meets the requirement to implement all measures contained in the serious area plan prior to redesignation. Therefore we conclude that the State meets the requirements for contingency measures in the maintenance plan.

B. What Do We Conclude About the Maintenance Plan?

Based on our review of the Wallula PM10 maintenance plan and for the reasons discussed above, we conclude that the requirements for an approvable maintenance plan under the Act have been met. Therefore, we are proposing approval of the maintenance plan for PM10 submitted for the Wallula nonattainment area.

III. Review of Redesignation Request

A. What Criteria Did EPA Use To Review the Request for Redesignation?

The criteria used to review the maintenance plan and redesignation request are derived from the Act, the General Preamble, and a policy and guidance memorandum from John Calcagni, September 4, 1992, Procedures for Processing Requests to Redesignate Areas to Attainment. Section 107(d)(3)(E) of the Act states that the EPA can be redesignate an area to attainment if the following conditions are met:

1. The Administrator has determined the area has attained the NAAQS.

2. The Administrator has fully approved the applicable implementation plan under section 110(k).

3. The Administrator has determined that the improvement in air quality is due to permanent and enforceable reductions in emissions.

4. The State has met all applicable requirements for the area under section 110 and part D.

5. The Administrator has fully approved a maintenance plan, including a contingency plan, for the area under section 175A.

1. Attainment of the NAAQS

Currently the area is in compliance with both the 24-hour and annual PM10 NAAQS. A thorough discussion of the area's compliance with the 24-hour PM10 standard as of December 31, 2001 and for the most recent three full years for which data is available, 2001, 2002, and 2003, is contained in EPA's attainment determination (67 FR 64816, September 3, 2002) and serious area plan approval (70 FR 22597, (May 2, 2005)). Based on data reported in AQS, there have been no exceedances of the PM10 NAAQS since those determinations were made. Therefore, the area continues to meet both the 24-hour and annual PM10 NAAQS.

To determine attainment of the annual PM10 NAAQS, which is 50 ug/m³, the standard is compared to the expected annual mean, which is the average of the weighted annual mean for three consecutive years. The weighted annual mean for each of two consecutive 3-year periods, 1999-2001 and 2000-2002, are 31 ug/m³ and 30 ug/m³, respectively. Because these values are below the 50 ug/m³ standard, the nonattainment area is in attainment with the annual PM10 NAAQS.

2. SIP Nonattainment Area Plan Approval Under Section 110(k)

States containing initial moderate PM10 nonattainment areas were required to submit, by November 15, 1991, a nonattainment area plan that implemented reasonably available control measures (RACM) by December 10, 1993, and demonstrated attainment of the PM10 NAAQS by December 31, 1994. This date was extended to December 31, 1997 for Wallula under a temporary waiver and then to December 31, 2001 after it was reclassified as a serious area. The SIP for the area must be fully approved under section 110(k) of the Act, and must satisfy all requirements that apply to the area.

On May 2, 2005 (70 FR 22597), EPA fully approved the serious area plan for the Wallula nonattainment area submitted by the State on November 30, 2004. EPA approved the State of Washington's nonattainment NSR program in on June 2, 1995. 60 FR 28726. The Wallula serious area plan demonstrated attainment of the PM10 NAAQS by the area's December 31, 2001 deadline. Thus, the area has a fully approved nonattainment SIP.

3. Permanent and Enforceable Improvement in Air Quality

The State must be able to reasonably attribute the improvement in air quality to permanent and enforceable emissions reductions. In making this showing, the State must demonstrate that air quality improvements are the result of actual enforceable emissions reductions. This showing should consider emission rates, production capacities, and other related information. The analysis should assume that sources are operating at permitted levels (or historic peak levels) unless evidence is presented that such an assumption is unrealistic.

Improvements in air quality in the Wallula nonattainment area are reasonably attributed to permanent and enforceable emissions reductions. Process controls and emission limits established at the pulp and paper mill and at the beef processing facility, along with paving at the mill, are permanent and enforceable measures and result in emissions reductions that are not dependent upon meteorology or economic conditions. In addition, because the truck transport activity in 1997 that led to a violation of the 24-hour PM10 NAAQS and reclassification to a serious nonattainment area was an unusual and nonrecurring activity, its cessation also results in permanent reductions.

BACM is being applied to agricultural fields in the Wallula nonattainment area and surrounding areas to reduce the generation of windblown dust. Agricultural data showing an increase in the application of best management practices in the Wallula area over the past decade and new and continued incentives provided by the Federal Food Security Act of 1985 (FSA), as amended in 1996 and 2002, (see 16 U.S.C. 3801-3862), provide further evidence that emissions reductions are the result of permanent control measures and not dependent on meteorology or economic conditions. Both the beef cattle feedlot and the composting facility have dust control plans that call for management practices to minimize fugitive dust and which have been incorporated into permits for these facilities. These were approved as permanent control measures in the Wallula serious area plan.

4. Section 110 and Part D Requirements

Before EPA may approve a redesignation request, the applicable programs under section 110 and Part D that were due prior to the submission of a redesignation request must be adopted by the State and approved by EPA into the SIP.

a. Section 110 Requirements

Section 110(a)(2) of the Act contains general requirements for nonattainment area plans. These requirements include, but are not limited to, submission of a SIP that has been adopted by the State after reasonable notice and public hearing; provisions for establishment and operation of appropriate apparatus, methods, systems and procedures necessary to monitor ambient air quality; implementation of a permit program; provisions for Part C—Prevention of Significant Deterioration (PSD) and Part D—New Source Review (NSR) permit programs; criteria for stationary source emission control measures, monitoring, and reporting, provisions for modeling; and provisions for public and local agency participation.

For purposes of redesignation, the Washington SIP was reviewed to ensure that the State has satisfied all requirements under the Act. Further, in 40 CFR 52.2473, EPA has approved Washington's SIP for the attainment and maintenance of the national standards under Section 110. The provisions related to NSR were most recently approved in the Washington SIP on June 2, 1995. 60 FR 28726. The Federal PSD regulations found at 40 CFR 52.21 are the PSD rules in effect for Washington. See 40 CFR 52.2497.

b. Part D Requirements

Part D consists of general requirements applicable to all areas which are designated nonattainment based on a violation of the NAAQS. The general requirements are followed by a series of subparts specific to each pollutant. All PM10 nonattainment areas must meet the applicable general provisions of subpart 1 and the specific PM10 provisions in subpart 4, “Additional Provisions for Particulate Matter Nonattainment Areas.” The following paragraphs discuss these requirements as they apply to the Wallula nonattainment area.

i. Section 172(c) Plan Provisions

This section contains general requirements for nonattainment area plans. A thorough discussion of these requirements may be found in the general preamble to Title I (57 FR 13498 (April 16, 1992)). The requirements for reasonable further progress, identification of certain emissions increases, emissions inventory, and other measures needed for attainment are satisfied by the serious area plan submitted for the Wallula nonattainment area and approved on May 2, 2005. 70 FR 22597. As mentioned above, the provisions related to NSR were most recently approved in the Washington SIP on June 2, 1995 (60 FR 28726) and the Federal PSD regulations found at 40 CFR 52.21 are the PSD rules in effect for Washington. See 40 CFR 52.2497.

ii. Subpart 4 Requirements

As a moderate PM10 nonattainment area, the Wallula, Washington area must meet Part D, subpart 4, sections 189(a), (c), and (e) requirements before the area can be redesignated to attainment. These requirements must be fully approved into the SIP.

EPA approved the serious area plan for the Wallula nonattainment area, which met the initial requirements of the 1990 amendments for moderate and serious PM10 nonattainment areas, on May 2, 2005. 70 FR 22597. This plan met requirements for RACM/BACM, demonstrating attainment, quantitative milestones, PM10 precursors, contingency measures, and quantitative milestones for demonstrating RFP. The provisions related to NSR were most recently approved in the Washington SIP on June 2, 1995. 60 FR 28726. The Federal PSD regulations found at 40 CFR 52.21 are the PSD rules in effect for Washington. See 40 CFR 52.2497.

5. Conformity

CAA section 176(c) requires that federally-funded or approved transportation plans, programs, and projects in nonattainment areas “conform” to the area's air quality implementation plans. Conformity ensures that federal transportation actions do not worsen an area's air quality or interfere with its meeting the air quality standards. We have issued a conformity rule that establishes the criteria and procedures for determining whether or not transportation plans, programs, and projects conform to a SIP. See 40 CFR part 93, subpart A.

Ecology's analysis shows that mobile sources are an insignificant source of PM10 emissions in the Wallula nonattainment area. As a result, a motor vehicle emissions budget is not required as part of the Wallula maintenance plan and transportation conformity does not apply in this area. See 40 CFR 93.109(k).

6. Maintenance Plans

Section 107(d)(3)(E) of the Act stipulates that for an area to be redesignated, EPA must fully approve a maintenance plan which meets the requirements of section 175A. A State may submit both the redesignation request and the maintenance plan at the same time and rulemaking on both may proceed on a parallel track.

On March 29, 2005, Ecology submitted a PM10 maintenance plan and redesignation request for the Wallula nonattainment area. In Section II above, we evaluated the plan and concluded that the requirements for an approvable maintenance plan under the Act have been met.

B. What Do We Conclude About the Request for Redesignation?

Based on our review of the maintenance plan and the request for redesignation submitted for the Wallula nonattainment area, we conclude that all the requirements for redesignation in Section 107(d)(3)(E) have been met. Therefore, we are proposing to redesignate the Wallula PM10 nonattainment area to attainment.

IV. Conclusion

Based on our evaluation of Ecology's March 29, 2005 SIP submittal, we propose full approval of the PM10 maintenance plan and redesignation request for the Wallula nonattainment area.

V. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

Dated: June 21, 2005.
Ronald A. Kreizenbeck,
Acting Regional Administrator, Region 10.

[FR Doc. 05-13058 Filed 6-30-05; 8:45 am]

BILLING CODE 6560-50-P